DEPARTMENT OF VETERANS AFFAIRS

Advisory Committee on Minority Veterans; Notice of Meeting

The Department of Veterans Affairs (VA) gives notice under the Public Law 92-463 (Federal Advisory Committee Act) that the Advisory Committee on Minority Veterans will meet on December 9-11, 2013, at the Department of Veterans Affairs, 810 Vermont Avenue NW., Washington, DC. On December 9-10, the sessions will be in room 230 from 8:00 a.m. until 5:00 p.m. and on December 11 in room 730 from 8:00 a.m. until 1:00 p.m. This meeting is open to the public.

The purposes of the Committee are to: Advise the Secretary on the administration of VA benefits and services to minority Veterans; assess the needs of minority Veterans; and evaluate whether VA compensation, medical and rehabilitation services, outreach, and other programs are meeting those needs. The Committee makes recommendations to the Secretary regarding such activities.

On December 9, the Committee will receive briefings and updates from the Center for Minority Veterans, Office of Health Equity, Office of Rural Health, Office of Tribal Government Relations (OTGR), and Veterans Benefits Administration. On December 10, the Committee will receive briefings and updates on the National Cemetery Administration (NCA), Center for Women Veterans, Veteran Employment Services Office, Office of Diversity and Inclusion, Office of Policy and Planning, Veterans Health Administration (VHA), and Homeless Programs. On December 11, the Committee will receive a briefing and update on Mental Health Services, Vet Centers, and hold an exit briefing with VBA, VHA and NCA. The Committee will receive public comments from 10:00 a.m. to 10:15 a.m. After public comment, the Committee will continue to work on their report.

A sign-in sheet for those who want to give comments will be available at the meeting. Individuals who speak are invited to submit a 1-2 page summaries of their comments at the time of the meeting for inclusion in the official meeting record. Members of the public may also submit written statements for the Committee's review to Ms. Juanita Mullen or Mr. Lee Nelms, Department of Veterans Affairs, Center for Minority Veterans (00M), 810 Vermont Avenue NW., Washington, DC 20420, or email at Juanita.mullen@va.gov or Lee.nelms@va.gov. Because the meeting is being held in a government building, a photo I.D. must be presented at the Guard's Desk as a part of the clearance process. Therefore, you should allow an additional 15 minutes before the meeting begins. Any member of the public wishing to attend or seeking additional information should contact Ms. Mullen or Mr. Nelms at (202) 461-6191 or by fax at (202) 273-7092.

Robert C. McFetridge,
Director, Regulation Policy and Management, Office of the General Counsel.

[FR Doc. 2013-27278 Filed 11-13-13; 8:45 am]

BILLING CODE 8320-01-P